DEPARTMENT OF VETERANS AFFAIRS

Loan Guaranty: Assistance to Eligible Individuals in Acquiring Specially Adapted Housing; Cost-of-Construction Index

AGENCY: Department of Veterans Affairs.

ACTION: Notice.

SUMMARY: The U.S. Department of Veterans Affairs (VA) announces that the aggregate amounts of assistance available under the Specially Adapted Housing (SAH) grant program will increase by 4.797 percent for Fiscal Year (FY) 2017.

FOR FURTHER INFORMATION CONTACT: John Bell, III, Assistant Director for Loan Policy and Valuation, Department of Veterans Affairs, 810 Vermont Avenue NW., Washington, DC 20420, (202) 632-8786 (not a toll-free number).

DATES: October 20, 2016.

SUPPLEMENTARY INFORMATION: In accordance with 38 U.S.C. 2102(e) and 38 U.S.C. 2102A(b)(2) and 38 CFR 36.4411, the Secretary of Veterans Affairs announces for FY 2017 the aggregate amounts of assistance available to veterans and servicemembers eligible for SAH program grants.

Public Law 110-289, the Housing and Economic Recovery Act of 2008, authorized the Secretary to increase the aggregate amounts of SAH assistance annually based on a residential home cost-of-construction index. Per 38 CFR 36.4411(a), the Secretary uses the Turner Building Cost Index for this purpose.

In the most recent quarter for which the Turner Building Cost Index is available, 2nd Quarter 2016, the index showed an increase of 4.797 percent over the index value listed by 2nd Quarter 2015. Pursuant to 38 CFR 36.4411(a), therefore, the aggregate amounts of assistance for SAH grants made pursuant to 38 U.S.C. 2101(a) and 2101(b) will increase by 4.797 percent for FY 2017.

Public Law 112-154, the Honoring America's Veterans and Caring for Camp Lejeune Families Act of 2012, required that the same percentage of increase apply to grants authorized pursuant to 38 U.S.C. 2102A. See 38 U.S.C. 2102A(b)(2). As such, the maximum amount of assistance available under these grants, which are called grants for Temporary Residence Adaptation (TRA grants), will also increase by 4.797 percent for FY2017.

The increases are effective as of October 1, 2016.

Specially Adapted Housing: Aggregate Amounts of Assistance Available During Fiscal Year 2017

2101(a) Grants and TRA Grants

Effective October 1, 2016, the aggregate amount of assistance available for SAH grants made pursuant to 38 U.S.C. 2101(a) will be $77,307 during FY 2017. The maximum TRA grant made to an individual who satisfies the eligibility criteria under 38 U.S.C. 2101(a) and 2102A will be $33,937 during FY 2017.

2101(b) Grants and TRA Grants

Effective as of October 1, 2016, the aggregate amount of assistance available for SAH grants made pursuant to 38 U.S.C. 2101(b) will be $15,462 during FY 2017. The maximum TRA grant made to an individual who satisfies the eligibility criteria under 38 U.S.C. 2101(b) and 2102A will be $6,059 during FY 2017.

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on October 5, 2016, for publication.

Dated: October 5, 2016.
Jeffrey Martin,
Office Program Manager, Office of Regulation Policy & Management, Office of the Secretary, Department of Veterans Affairs.

[FR Doc. 2016-25398 Filed 10-19-16; 8:45 am]

BILLING CODE 8320-01-P